DEPARTMENT OF HEALTH AND HUMAN SERVICES

[Document Identifier: OS-4040-0011]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before August 19, 2019.

ADDRESSES: Submit your comments to OIRA_submission@omb.eop.gov or via facsimile to (202) 395-5806.

FOR FURTHER INFORMATION CONTACT: Ed Calimag, ed.calimag@hhs.gov or (202) 690-7569. When submitting comments or requesting information, please include the document identifier 4040-0011-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collections: SF-271 Outlay Report and Request for Reimbursement for Construction Programs.

Type of Collection: Reinstatement and extension without change of a previously approved collection.

OMB No.: 4040-0011.

Abstract: The SF-271 Outlay Report and Request for Reimbursement for Construction Programs form is an OMB-approved collection (4040-0011). This information collection is used by grant awardees to report on their construction grant award. The IC expired on January 31, 2019. We are reinstatement of this information collection and a three-year clearance.

Estimated Annualized Burden Table
Forms | Number of respondents | Number of responses per respondent | Average burden hours per response | Total burden hours
SF-271 Outlay Report and Request for Reimbursement for Construction Programs | 100,000 | 1 | 1 | 100,000
Total | 100,000 |  |  | 100,000

Terry Clark,
Office of the Secretary, Paperwork Reduction Act Reports Clearance Officer.

[FR Doc. 2019-15393 Filed 7-18-19; 8:45 am]

BILLING CODE 4151-AE-P